COUNCIL OF THE INSPECTORS GENERAL ON INTEGRITY AND EFFICIENCY

Senior Executive Service Performance Review Board Membership

AGENCY: Council of the Inspectors General on Integrity and Efficiency.

ACTION: Notice.

DATES: Applicable October 1, 2023.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008 established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. CIGIE is an interagency council whose executive chair is the Deputy Director for Management, Office of Management and Budget, and is comprised principally of the 75 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2023, are as follows:

Agency for International Development

Phone Number: (202) 712-1150

CIGIE Liaison—Nicole Angarella and Ashley Obando (202) 712-4630

• Nicole Angarella—Acting Deputy Inspector General, Performing the Duties of the Inspector General.

• Marc Meyer—Assistant Inspector General for Investigations.

• Alvin A. Brown—Deputy Assistant Inspector General for Audit.

• Toayoa Aldridge—Deputy Assistant Inspector General for Audit.

• Van Nguyen—Assistant Inspector General for Audit, Inspections and Evaluations.

• Ashley Obando—Acting Chief of Staff.

• Adam Kaplan—Acting General Counsel.

Department of Agriculture

Phone Number: (202) 720-8001

CIGIE Liaison—Angel N. Bethea (202) 720-8001

• Ann M. Coffey—Deputy Inspector General.

• Christy A. Slamowitz—Counsel to the Inspector General.

• Janet Sorensen—Assistant Inspector General for Audit.

• Steven H. Rickrode, Jr.—Deputy Assistant Inspector General for Audit.

• Yarisis Rivera Rojas—Deputy Assistant Inspector General for Audit.

• Nicole Gardner—Deputy Assistant Inspector General for Investigations.

• Mily Le—Assistant Inspector General for Management.

Department of Commerce

Phone Number: (202) 578-3324

CIGIE Liaison—Melina Avakian (202) 578-3324

• Roderick M. Anderson—Deputy Inspector General.

• Richard L. Bachman—Assistant Inspector General for Audit and Evaluation.

• E. Wade Green—Counsel to the Inspector General.

• Robert O. Johnston, Jr.—Chief of Staff.

• Scott M. Kieffer—Assistant Inspector General for Investigations.

• Frederick J. Meny—Assistant Inspector General for Audit & Evaluation.

• Arthur L. Scott, Jr.—Assistant Inspector General for Audit and Evaluation.

• Mark H. Zabarsky—Principle Assistant Inspector General for Audit and Evaluation.

Council of the Inspectors General on Integrity and Efficiency

Phone Number: (202) 292-2600

CIGIE Liaison—Denise Mangra (202) 292-2604

• Andrew Cannarsa—Executive Director.

• Douglas Holt—Executive Director CIGIE Training Institute.

Department of Defense

Phone Number: (703) 604-8324

CIGIE Liaison—Steven Driscoll (202) 860-4777

• Juliet Hodgkins—Principal Deputy Inspector General.

• Megan Tinker—Chief of Staff.

• Robert Owens, Jr.—Deputy Inspector for Management and Policy.

• Christian Schrank—Deputy Inspector for Investigations.

• Adam Globerman—Assistant Inspector General for Investigations.

• Ann Maxwell—Deputy Inspector General for Evaluation and Inspections.

• Erin Bliss—Assistant Inspector General for Evaluation and Inspections.

• Robert DeConti—Chief Counsil to the Inspector General.

• Lisa Re—Assistant Inspector General for Legal Affairs.

• Amy Frontz—Deputy Inspector General for Audit Services.

• Tamara Lilly—Assistant Inspector General for Audit Services.

• Carla Lewis—Assistant Inspector General for Audit Services.

• John Hagg—Assistant Inspector General for Audit Services.

Department of Education

Phone Number: (202) 245-6900

CIGIE Liaison—Joy Stith (202) 245-6435

• Vacant—Deputy Inspector General.

• Bryon Gordon—Assistant Inspector General for Audit.

• Sean Dawson—Deputy Assistant Inspector General for Audit.

• Theresa Perolini—Deputy Assistant Inspector General for Audit Services.

• Robert Mancuso—Assistant Inspector General for Investigations.

• Jason Williams—Deputy Assistant Inspector General for Investigations.

• Kevin Young—Assistant Inspector General for Technology Services.

• Antonio Murray—Deputy Assistant Inspector General for Technology Services.

• Antigone Potamianos—Counsel to the Inspector General.

Department of Energy

Phone Number: (202) 586-4393

CIGIE Liaison—Ryan Cocolin (202) 586-8672

• Jennifer Quinones—Deputy Inspector General.

• Travis Farris—Chief Counsel to the Inspector General.

• Charles Sabatos—Assistant Inspector General for Management and Administration.

• Lewe Sessions—Assistant Inspector General for Investigations.

• Kenneth Dieffenbach—Deputy Inspector General for Investigations.

• Kshemendra Paul—Assistant Inspector General for Cyber Assessments and Data Analytics.

• Todd Wisniewski—Deputy Assistant Inspector General for Cyber Assessments and Data Analytics.

• Earl Omer—Assistant Inspector General for Audits.

• John McCoy II—Deputy Assistant Inspector General for Audits.

• Anthony Cruz—Assistant Inspector General for Inspections, Intelligence Oversight, and Special Projects.

• Debbie Thomas—Deputy Assistant Inspector General for Inspections, Intelligence Oversight, and Special Projects.

• Jonathan Black—Chief Advisor for Strategic Planning and Program Oversight.

Environmental Protection Agency

CIGIE Liaison—Jee Kim (202) 566-1429

• Kellie J. Walker—Chief of Staff.

• M. Benjamin May—Counsel of the Inspector General.

• Mary Katherine Trimble—Assistant Inspector General for Audit.

• Paul Bergstrand—Assistant Inspector General for Special Review and Evaluation.

• Jason Abend—Assistant Inspector General for Investigations.

• Michael Zola—Assistant Inspector General for Congressional and Public Affairs.

• Stephanie Wright—Chief Technology Officer.

Equal Employment Opportunity Commission

Phone Number: 1-800-849-4230

CIGIE Liaison—Joyce T. Willoughby (202) 921-3138

• Milton A. Mayo, Jr.—Inspector General.

Federal Labor Relations Authority

Phone Number: (202) 218-7744

CIGIE Liaison—Dana Rooney (202) 218-7744

• Dana Rooney—Inspector General.

Federal Maritime Commission

Phone Number: (202) 523-5863

CIGIE Liaison—Jon Hatfield (202) 523-5863

• Jon Hatfield—Inspector General.

Federal Trade Commission

Phone Number: (202) 326-2355

CIGIE Liaison—Andrew Katsaros (202) 326-2355

• Andrew Katsaros—Inspector General.

General Services Administration

Phone Number: (202) 501-0450

CIGIE Liaison—Sarah Breen (202) 273-7284

• Robert C. Erickson—Deputy Inspector General.

• Edward Martin—Counsel to the Inspector General.

• R. Nicholas Goco—Assistant Inspector General for Audits.

• Barbara Bouldin—Deputy Assistant Inspector General for Acquisition Program Audits.

• Brian Gibson—Deputy Assistant Inspector General for Real Property Audits.

• James E. Adams—Assistant Inspector General for Investigations.

• Jason Suffredini—Deputy Assistant Inspector General for Inspections.

• Patricia D. Sheehan—Assistant Inspector General for Inspections.

• Kristine Preece—Assistant Inspector General for Administration.

Department of Health and Human Services

Phone Number: (202) 619-3148

CIGIE Liaison—Steven Driscoll (202) 860-4777

• Juliet Hodgkins—Principal Deputy Inspector General.

• Megan Tinker—Chief of Staff.

• Robert Owens, Jr.—Deputy Inspector General for Management and Policy.

• Christian Schrank—Assistant Inspector General for Investigations.

• Adam Globerman—Assistant Inspector General for Investigations.

• Ann Maxwell—Deputy Inspector General for Evaluation and Inspections.

• Erin Bliss—Assistant Inspector General for Evaluation and Inspections.

• Robert DeConti—Chief Counsel to the Inspector General.

• Lisa Re—Assistant Inspector General for Legal Affairs.

• Amy Frontz—Deputy Inspector General for Audit Services.

• Tamara Lilly—Assistant Inspector General for Audit Services.

• Carla Lewis—Assistant Inspector General for Audit Services.

• John Hagg—Assistant Inspector General for Audit Services.

Department of Homeland Security

Phone Number: (202) 981-6000

CIGIE Liaison—Lyvette Wallace (202) 369-3675

• Maureen Duddy—Assistant Inspector General for Audits, Financial Acquisitions and Emerging Threats.

• Erika Lang—Assistant Inspector General for Inspections and Evaluations.

Department of Housing and Urban Development

Phone Number: (202) 708-0430

CIGIE Liaison—Fara Damelin (2020) 680-2088

• Charles Jones—Senior Advisor for External Affairs.

• Fara Damelin—Chief of Staff.

• Kilah White—Assistant Inspector General for Audit.

• Kimberly Randall—Deputy Assistant Inspector General for Audit.

• Ryan McGonagle—Deputy Assistant Inspector General for Audit.

• Sarah Sequeira—Deputy Assistant Inspector General for Audit.

• Kudawashe Ushe—Chief Information Officer.

• Maura Malone—Counsel to the Inspector General.

• Brian Pattison—Assistant Inspector General for Evaluation.

• Matthew Harris—Assistant Inspector General for Investigation.

• Audra Dortch—Deputy Assistant Inspector General for Investigation.

• Stephen Begg—Deputy Inspector General.

International Development Finance Corporation

Phone Number: (202) 361-8609

CIGIE Liaison—Gladis Griffith (202) 977-5893

• Anthony Zakel—Inspector General (SL).

• Gladis Griffith—Deputy Inspector General & General Counsel (SL).

• Darrell Benjamin—Assistant Inspector General of Audits (SL).

• John Warren—Assistant Inspector General of Investigations (SL).

Department of the Interior

Phone Number: (202) 208-5635

CIGIE Liaison—Karen Edwards (202) 208-5635

• Caryl Brzymialkiewicz—Deputy Inspector General.

• Jill Baisinger—Chief of Staff.

• Matthew Elliott—Assistant Inspector General for Investigations.

• Edward “Ted” Baugh—Deputy Assistant Inspector General for Investigations.

• Justin Martell—General Counsel.

• Kathleeen Sedney—Assistant Inspector General for Audit.

• Nicole Miller—Deputy Inspector General for Audit.

• Jorge Christian—Assistant Inspector General for Management.

• Michael O'Rourke—Assistant Inspector General for Strategy, Data, and Innovation.

Department of Justice

Phone Number: (202) 514-3435

CIGIE Liaison—John Lavinsky (202) 514-3435

• William M. Blier—Deputy Inspector General.

• Jonathan M. Malis—General Counsel.

• Michael Sean O'Neill—Assistant Inspector General for Oversight and Review.

• Patricia A. Sumner—Deputy Assistant Inspector General for Oversight and Review.

• Jason R. Malmstrom—Assistant Inspector General for Audit.

• Carol S. Taraszka—Deputy Assistant Inspector General for Audit.

• Kevin M. Strung—Assistant Inspector General for Audit, Office of Data Analytics.

• Sarah E. Lake—Assistant Inspector General for Investigations.

• Sandra D. Barnes—Deputy Assistant Inspector General for Investigations.

• Sanjay Arnold—Assistant Inspector General for Information Technology Division.

• Rene L. Lee—Assistant Inspector General for Evaluation and Inspections.

• Allison E. Russo—Deputy Assistant Inspector General Evaluation and Inspections.

• Mark L. Hayes—Assistant Inspector General for Management and Planning.

• Nancy L. House—Deputy Assistant Inspector General for Management and Planning.

Department of Labor

Phone Number: (202) 693-5100

CIGIE Liaison—Erin Zickafoose (202) 693-7062

• Luiz A. Santos—Deputy Inspector General.

• Delores “Dee” Thompson—Counsel to the Inspector General.

• Carolyn Ramona Hantz—Assistant Inspector General for Audit.

• Laura Nicolosi—Deputy Assistant Inspector General for Audit.

• Tawanda Holmes—Deputy Assistant Inspector General for Audit.

• Michael C. Mikulka—Assistant Inspector General for Investigations—Labor Racketeering and Fraud.

• Suzann K. Gallagher—Deputy Assistant Inspector General for Investigations—Labor Racketeering and Fraud.

• Christopher T. Cooper—Deputy Assistant Inspector General for Investigations—Labor Racketeering and Fraud.

• Tara A. Porter—Assistant Inspector General for Management and Policy.

• Claudette L. Fogg-Castillo—Deputy Assistant Inspector General for Management and Policy.

• Jessica Southwell—Chief Performance and Risk Management Officer.

National Aeronautics and Space Administration

Phone Number: (202) 358-1220

CIGIE Liaison—Renee Juhans (202) 358-1712

• George A. Scott—Deputy Inspector General

• Robert H. Steinau—Assistant Inspector General for Investigation.

• Frank LaRocca—Counsel to the Inspector General.

• Kimberly F. Benoit—Assistant Inspector General for Audits.

• Robert H. Steinau—(Acting) Assistant Inspector General for Management Planning.

National Archives and Records Administration

Phone Number: (301) 837-3000

CIGIE Liaison—John Simms (301) 837-3000

• Brett Baker—Inspector General.

National Labor Relations Board

Phone Number: (202) 273-1960

CIGIE Liaison—Robert Brennan (202) 273-1960

• David P. Berry—Inspector General.

National Science Foundation

Phone Number: (703) 292-7100

CIGIE Liaison—Lisa Vonder Haar (703) 292-2989

• Megan Wallace—Assistant Inspector General for Investigations.

• Ken Chason—Counsel to the Inspector General.

• Javier E. Inclán—Assistant Inspector General for Management and CIO.

Nuclear Regulatory Commission

Phone Number: (301) 415-5930

CIGIE Liaison—Christine Arroyo (301) 415-0526

• Ziad Buhaissi—Deputy Inspector General.

• Malion Bartley—Assistant Inspector General for Investigations.

• Hruta Virkar—Assistant Inspector General for Audits.

Office of Personnel Management

Phone Number: (202) 606-1200

CIGIE Liaison—Faiza Mathon-Mathieu (202) 606-2236

• Krista A. Boyd—Inspector General.

• Norbert E. Vint—Deputy Inspector General.

• Michael R. Esser—Assistant Inspector General for Audits.

• Melissa D. Brown—Deputy Assistant Inspector General for Audits.

• Lewis F. Parker, Jr.—Deputy Assistant Inspector General for Audits.

• Drew M. Grimm—Assistant Inspector General for Investigations.

• Conrad Quarles—Deputy Assistant Inspector General for Investigations.

• Nicholas E. Hoyle—Assistant Inspector General for Management.

• Robin A. Thottungal—Deputy Assistant Inspector General for Management/Chief Information Technology Officer.

• Monyca W. Peyton—Deputy Assistant Inspector General for Management.

• Paul St. Hillaire—Assistant Inspector General for Legal and Legislative Affairs.

• Faiza Mathon-Mathieu—Deputy Assistant Inspector General for Legal and Legislative Affairs.

Special Inspector General for Pandemic Recovery

Phone Number: (202) 923-7782

CIGIE Liaison—Geoffrey A. Cherrington (202) 713-8437

• Barbara Bruin—Deputy Special Inspector General.

• Theodore R. Stehney—Assistant Inspector General for Audits.

• Erica M. Kavanagh—Assistant Inspector General for Administration.

• Geoffrey A. Cherrington—Assistant Inspector General for External Affairs.

• Christopher Cherry—Deputy Assistant Inspector General for Investigations.

• Jean Saint Elin—Deputy Assistant Inspector General for Audits.

• James A. Nussbaumer—Deputy Assistant Inspector General for Administration.

• David C. Woll Jr.—Deputy General Counsel.

• Pamela Satterfield—Deputy General Counsel.

United States Postal Service

Phone Number: (703) 248-2100

CIGIE Liaison—Agapi Doulaveris (703) 248-2286

• Elizabeth Martin—Deputy Inspector General/Chief Diversity Officer.

• Julius Rothstein—Deputy Inspector General/Attorney.

• Robert Kwalwasser—Assistant Inspector General for Investigations.

Railroad Retirement Board

Phone Number: (312) 751-4690

CIGIE Liaison—Jill Roellig (312) 751-4993

• Patricia A. Marshall—Deputy Inspector General and Counsel to the Inspector General.

Small Business Administration

Phone Number: (202) 401-0753

CIGIE Liaison—Mary Kazarian (202) 205-6586

• Sheldon Shoemaker—Deputy Inspector General.

• Shafee Carnegie—Assistant Inspector General for Investigations.

• Andrea Deadwyler—Assistant Inspector General for Audits.

• Francine Hines—Assistant Inspector General for Management and Operations.

Social Security Administration

Phone Number: (410) 966-8385

CIGIE Liaison—Craig Meklir (443) 316-7922

• Michelle L.H. Anderson—Assistant Inspector General for Audit.

• Mike Arbuco—Chief Operating Officer.

• Jeffery Brown—Deputy Assistant Inspector General for Audit.

• B. Chad Bungard—Chief Strategy Officer.

• Mark Franco—Deputy Assistant Inspector General for Investigations.

• Joscelyn Funnié—Assistant Inspector General for Workforce Performance and Development.

• Kevin Huse—Deputy Assistant Inspector General for Investigations.

• Donald Jefferson—Assistant Inspector General for Investigations.

• Adriana Menchaca-Gendron—Assistant Inspector General for Resource Management.

• Michelle M. Murray—Chief Counsel to the Inspector General.

• Ted Planzos—Chief Investigative Counsel.

• Adam Schneider—Deputy Assistant Inspector General for Investigations.

• Mark Searight—Deputy Assistant Inspector General for Audit.

Special Inspector General for the Troubled Asset Relief Program

Phone Number: (202) 622-1419

CIGIE Liaison—Melissa Bruce (202) 617-4238

• Melissa Bruce—Principal Deputy Special Inspector General.

• Thomas Jankowski—Deputy Inspector General for Investigations.

• Sidney Rocke—General Counsel.

Department of State and the U.S. Agency for Global Media

Phone Number: (571) 348-3804

CIGIE Liaison—Mark Huffman (571) 348-4881

• Diana R. Shaw—Deputy Inspector General.

• Nicole Matthis—Acting Chief of Staff and Deputy Assistant Inspector General for Evaluations and Special Projects.

• Norman P. Brown—Assistant Inspector General for Audits.

• Sandra J. Lewis—Acting Deputy Inspector General for Internal Operations and Mission Support.

• Justin Brown (SL)—Senior Advisor to the Inspector General.

• Matthew Tuchow—General Counsel.

• Kevin S. Donohue—Deputy General Counsel.

• Gayle L. Voshell—Deputy Assistant Inspector General for Audits.

• Beverly J.C. O'Neill—Deputy Assistant Inspector General for Audits, Middle East Region Operations.

• Arne Baker—Acting Assistant Inspector General for Inspections.

• Lisa R. Rodely—Deputy Assistant Inspector General for Inspections.

• Robert J. Smolich—Assistant Inspector General for Investigations.

• Jason Loeffler—Deputy Assistant Inspector General for Investigations.

• Andrew Chiu—Assistant Inspector General for Administration/Director of the Office of the Executive Director.

• Jeffrey McDermott—Assistant Inspector General for Evaluations and Special Projects.

• Brian Sano (SL)—Director of Organizational Health.

Department of Transportation

Phone Number: (202) 366-1959

CIGIE Liaison—Nathan P. Richmond: (202) 493-0422

• Mitchell L. Behm—Deputy Inspector General.

• M. Elise Chawaga—Principal Assistant Inspector General for Investigations.

• Susan Ocampo—Deputy Assistant Inspector General for Investigations.

• Charles A. (Chuck) Ward—Principal Assistant Inspector General for Auditing and Evaluation.

• Tiffany Mostert—Assistant Inspector General for Audit Operations and Special Reviews.

• Nelda Z. Smith—Assistant Inspector General for Aviation Audits.

• Dory Dillard-Christian—Assistant Inspector General for Financial Audits.

• David Pouliott—Assistant Inspector General for Surface Transportation Audits.

• Carolyn Hicks—Assistant Inspector General for Acquisition and Procurement Audits.

• Kevin Dorsey—Assistant Inspector General for Information Technology Audits.

• Omer Poirier—Chief Counsel.

• Andrea Nossaman—Assistant Inspector General for Strategic Communications and Programs.

Department of the Treasury

Phone Number: (202) 622-1090

CIGIE Liaison—Rich Delmar (202) 927-3973

• Richard K. Delmar—DeputyInspector General.

• Jeffrey Lawrence—Assistant Inspector General for Management.

• Sally Luttrell—Assistant Inspector General for Investigations.

• Deborah L. Harker—Assistant Inspector General for Audit.

• Pauletta Battle—Deputy Assistant Inspector General for Financial Management and Transparency Audits.

• Susan L. Barron—Deputy Assistant Inspector General for Financial Sector Audits.

• Donna F. Joseph—Deputy Assistant Inspector General for Cyber and Financial Assistance Audits.

Treasury Inspector General for Tax Administration/Department of the Treasury

Phone Number: (202) 622-6500

CIGIE Liaison—LaToya George (404) 831-8075

• Gladys Hernandez—Chief Counsel.

• Lori Creswell—Deputy Chief Counsel.

• Mervin Hyndman—Deputy Inspector General for Mission Support/Chief Financial Officer.

• Richard Varn II—Chief Information Officer.

• Trevor Nelson—Acting Deputy Inspector General for Investigations.

• Heather Hill—Deputy Inspector General for Inspections and Evaluations.

• Nancy LaManna—Assistant Inspector General for Audit, Management, Planning, and Workforce Development.

• Diana Tengesdal—Assistant Inspector General for Audit, Returns Processing and Account Services.

• Bryce Kisler—Assistant Inspector General for Audit, Management Services and Exempt Organizations.

• Russell Martin—Assistant Inspector General for Audit, Returns Processing, and Accounting Services.

• Danny Verneuille—Assistant Inspector General for Audit, Security, and Information Technology Services.

• Matthew Weir—Assistant Inspector General for Audit, Compliance, and Enforcement Operations.

• Edward Currie—Acting Assistant Inspector General for Investigations— Special Investigations and Support Directorate.

• Dale Forrester—Assistant Inspector General for Investigations—Strategic Enforcement Directorate.

• Derek Anderson—Deputy Assistant Inspector General for Investigations— Field Operations.

• John Kirk—Assistant Inspector General for Investigations—Wester Field Region.

Department of Veterans Affairs

Phone Number: (202) 461-4603

CIGIE Liaison—Brady Beckham (202) 264-9376

• David Case—Deputy Inspector General.

• John D. Daigh—Assistant Inspector General for Healthcare Inspections.

• Michael Goduti—Deputy Assistant Inspector General for Management and Administration.

• David Johnson—Assistant Inspector General for Investigations.

• Julie Kroviak—Principal Deputy Assistant Inspector General for Healthcare Inspections.

• Brent Penny—Assistant Inspector General for Management and Administration.

• Larry Reinkemeyer—Assistant Inspector General for Audits and Evaluations.

• Gopala Seelamneni—Deputy Assistant Inspector General for Management and Administration/Chief Technology.

• Chris Wilber—Counselor to the Inspector General.

Dated: October 1, 2023.
Douglas Holt,
Executive Director, Training Institute.

[FR Doc. 2023-22542 Filed 10-12-23; 8:45 am]

BILLING CODE 6820-C9-P